DEPARTMENT OF TRANSPORTATION

Surface Transportation Board

[STB Finance Docket No. 34770]

D&W Railroad, LLC—Acquisition Exemption—Rail Lines of D&W Railroad, Inc.

D&W Railroad, LLC (D&W, LLC), a noncarrier, has filed a verified notice of exemption under 49 CFR 1150.31 to acquire approximately 29 miles of rail line, including incidental trackage rights, known as the Waterloo Industrial Lead, from D&W Railroad, Inc. The lines to be acquired are located in Black Hawk, Buchanan and Fayette Counties, IA, as follows: (1) between milepost 332.0 at Dewar, IA, and milepost 354.3 at Oelwein, IA; (2) between milepost 245.58 and milepost 245.0 at Oelwein; (3) .32 miles of wye track at Oelwein; and (4) incidental trackage rights over Union Pacific Railroad Company's track between milepost 332.0 at Dewar and milepost 326.2 at Linden Street, Waterloo, IA.¹

¹ According to D&W, LLC, the lines have been operated by Iowa Northern Railway Company (Iowa Northern) and Iowa Northern will continue to operate the lines under D&W, LLC's ownership.

D&W, LLC certifies that its projected revenues as a result of this transaction will not exceed those that would qualify it as a Class III rail carrier.

D&W, LLC reported that the parties intend to consummate the transaction no earlier than October 31, 2005 (the effective date of the exemption).

If the notice contains false or misleading information, the exemption is void ab initio. Petitions to revoke the exemption under 49 U.S.C. 10502(d) may be filed at any time. The filing of a petition to revoke will not automatically stay the transaction.

An original and 10 copies of all pleadings, referring to STB Finance Docket No. 34770, must be filed with the Surface Transportation Board, 1925 K Street, N.W., Washington, DC 20423-0001. In addition, one copy of each pleading must be served on Thomas F. McFarland, 208 South LaSalle Street, Suite 1890, Chicago, IL 60604-1112.

Board decisions and notices are available on our Web site at http://www.stb.dot.gov.

Decided: November 16, 2005.
By the Board, David M. Konschnik, Director, Office of Proceedings.
Vernon A. Williams,
Secretary.

[FR Doc. 05-23094 Filed 11-22-05; 8:45 am]

BILLING CODE 4915-01-P